DEPARTMENT OF HEALTH AND HUMAN SERVICES (HHS)

Centers for Medicare & Medicaid Services

Notice of Hearing: Reconsideration of Disapproval of Texas State Plan Amendment (SPA) 07-020

AGENCY: Centers for Medicare & Medicaid Services (CMS), HHS.

ACTION: Notice of Hearing.

SUMMARY: This notice announces an administrative hearing to be held on July 8, 2008, at the CMS Dallas Regional Office, 1301 Young Street, Suite 833, Room 1196, Dallas, Texas 75202, to reconsider CMS' decision to disapprove Texas SPA 07-020.

Closing Date: Requests to participate in the hearing as a party must be received by the presiding officer by June 13, 2008.

FOR FURTHER INFORMATION CONTACT: Benjamin Cohen, Presiding Officer, CMS, 2520 Lord Baltimore Drive, Suite L, Baltimore, Maryland 21244, Telephone: (410) 786-3169.

SUPPLEMENTARY INFORMATION: This notice announces an administrative hearing to reconsider CMS' decision to disapprove Texas SPA 07-020 which was submitted on July 20, 2007, and disapproved on February 22, 2008.

Under this SPA, the State would guarantee that, at the request of a hospital impacted as a result of a federally declared natural disaster, disproportionate share hospital (DSH) payments to that hospital would remain level from the prior year. In addition, the SPA would amend the conversion factors that expire August 31, 2007, and would update cost reporting citations that have changed due to a format change in the CMS Hospital and Hospital Health Care Complex Cost Report.

The amendment was disapproved because it does not comply with the requirements of section 1902(a)(13)(A) of the Social Security Act (the Act) together with the hospital specific limits under 1923(g)(1) of the Act.

The hearing will involve the following issues:

• Compliance with section 1923(g) of the Act. Whether the proposed State plan language concerning DSH payments assures compliance with hospital specific payment limits for current year DSH payments, and sufficient documentation of such compliance;

• Applicability of section 1923(e)(2) of the Act providing an exception to the section 1923(g) limits. Whether section 1923(e)(2) provides an exception to section 1923(g), and, if so, whether the State meets the criteria for such an exception; and

• Clarification of the status of State plan amendment components that address changes to conversion factors and updates to cost reporting citations based on changes to the CMS Hospital Cost Report. If the State does not prevail on the first two issues, whether the State is asking the hearing officer to withdraw affected components of the State plan amendment and remand remaining components for a determination of whether approval is warranted.

Section 1116 of the Act and Federal regulations at 42 CFR Part 430, establish Department procedures that provide an administrative hearing for reconsideration of a disapproval of a State plan or plan amendment. CMS is required to publish a copy of the notice to a State Medicaid agency that informs the agency of the time and place of the hearing, and the issues to be considered. If we subsequently notify the agency of additional issues that will be considered at the hearing, we will also publish that notice.

Any individual or group that wants to participate in the hearing as a party must petition the presiding officer within 15 days after publication of this notice, in accordance with the requirements contained at 42 CFR 430.76(b)(2). Any interested person or organization that wants to participate as amicus curiae must petition the presiding officer before the hearing begins in accordance with the requirements contained at 42 CFR 430.76(c). If the hearing is later rescheduled, the presiding officer will notify all participants.

The notice to Texas announcing an administrative hearing to reconsider the disapproval of its SPA reads as follows:

Mr. Chris Traylor, State Medicaid Director, Texas Health and Human Services Commission, P.O. Box 13247, Austin, TX 78711.

Dear Mr. Traylor: I am responding to your request for reconsideration of the decision to disapprove the Texas State plan amendment (SPA) 07-020, which was submitted on July 20, 2007, and disapproved on February 22, 2008.

Under this SPA, the State would guarantee that, at the request of a hospital impacted as a result of a federally declared natural disaster, disproportionate share hospital (DSH) payments to that hospital would remain level from the prior year. In addition, the SPA would amend the conversion factors that expire August 31, 2007, and would update cost reporting citations that have changed due to a format change in the Centers for Medicare & Medicaid Services' (CMS) Hospital and Hospital Health Care Complex Cost Report.

The amendment was disapproved because it does not comply with the requirements of section 1902(a)(13)(A) of the Social Security Act (the Act) together with the hospital specific limits under 1923(g)(1) of the Act.

The hearing will involve the following issues:

• Compliance with section 1923(g) of the Act. Whether the proposed State plan language concerning DSH payments assures compliance with hospital specific payment limits for current year DSH payments, and sufficient documentation of such compliance;

• Applicability of section 1923(e)(2) of the Act providing an exception to the section 1923(g) limits. Whether section 1923(e)(2) provides an exception to section 1923(g) and, if so, whether the State meets the criteria for such an exception; and

• Clarification of the status of SPA components that address changes to conversion factors and updates to cost reporting citations based on changes to the CMS Hospital and Hospital Health Care Complex Cost Report. If the State does not prevail on the first two issues, whether the State is asking the hearing officer to withdraw affected components of the SPA and remand remaining components for a determination of whether approval is warranted.

I am scheduling a hearing on your request for reconsideration to be held on July 8, 2008, at the CMS Dallas Regional Office, 1301 Young Street, Suite 833, Room 1196, Dallas, Texas 75202, in order to reconsider the decision to disapprove SPA 07-020. If this date is not acceptable, we would be glad to set another date that is mutually agreeable to the parties. The hearing will be governed by the procedures prescribed by Federal regulations at 42 CFR Part 430.

I am designating Mr. Benjamin Cohen as the presiding officer. If these arrangements present any problems, please contact the presiding officer at (410) 786-3169. In order to facilitate any communication which may be necessary between the parties to the hearing, please notify the presiding officer to indicate acceptability of the hearing date that has been scheduled and provide names of the individuals who will represent the State at the hearing.

Sincerely,

Kerry Weems,

Acting Administrator.

Section 1116 of the Social Security Act (42 U.S.C. 1316; 42 CFR 430.18).

(Catalog of Federal Domestic Assistance program No. 13.714, Medicaid Assistance Program.)

Dated: May 20, 2008.
Kerry Weems,
Acting Administrator, Centers for Medicare & Medicaid Services.

[FR Doc. E8-12022 Filed 5-28-08; 8:45 am]

BILLING CODE 4120-01-P